DEPARTMENT OF ENERGY

Federal Energy Regulatory Commission

[Project No. 15148-000]

North Loup River Public Power & Irrigation District; Notice of Application Tendered for Filing With the Commission and Soliciting Additional Study Requests

Take notice that the following hydroelectric application has been filed with the Commission and is available for public inspection.

a. Type of Application: Exemption From Licensing.

b. Project No.: P-15148-000.

c. Date filed: May 21, 2021.

d. Applicant: North Loup River Public Power & Irrigation District (North Loup District).

e. Name of Project: Ord Diversion Dam Hydroelectric Project (project).

f. Location: On the North Loup River, in the Town of Ord, Valley County, Nebraska. No federal or tribal lands would be occupied by project works or located within the project boundary.

g. Filed Pursuant to: Public Utility Regulatory Policies Act of 1978, 16 U.S.C. 2705, 2708.

h. Applicant Contact: Amos Lange, General Manager of North Loup River Public Power & Irrigation District, 128 North 16th Street, Ord, NE 68862, and 308-728-3851.

i. FERC Contact: Shana Wiseman, 202-502-8736, and shana.wiseman@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 2, 2021.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15148-000.

m. The application is not ready for environmental analysis at this time.

n. The proposed project would consist of: (1) Five new concrete flumes placed directly at the base of the existing Ord Diversion dam (also known as the Hardenbrook Diversion Structure); (2) each flume would contain two vertical axis hydrokinetic turbines directly connected to a 480-volt, 3-phase generator for a 12 kilowatt (kW) capacity per flume, or 60 kW capacity for the project; (3) an existing irrigation canal; (4) a new turbine control and power conditioning cabinet; (5) an new array control cabinet; (6) a new 0.5-mile-long transmission line; and (7) appurtenant facilities. The project is estimated to generate an average of 394 megawatt-hours annually. North Loup District proposes to operate the project in a run-of-river mode.

o. A copy of the application may be viewed and/or printed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued on March 13, 2020. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

p. With this notice, we are initiating consultation with the Nebraska State Historic Preservation Officer (SHPO), as required by section 106 of the National Historic Preservation Act and the regulations of the Advisory Council on Historic Preservation, 36 CFR 800.4.

q. Procedural schedule: The application will be processed according to the following preliminary schedule. Revisions to the schedule will be made as appropriate (e.g., if there are no deficiencies and/or scoping is waived, the schedule would be shortened).

Milestone | Target date
Issue Deficiency/Additional Information Request (if necessary) | July 2021.
Issue Acceptance Letter/Ready for Environmental Analysis | November 2021.
Commission issues EA | February 2022.

Dated: June 3, 2021.
Kimberly D. Bose,
Secretary.

[FR Doc. 2021-12253 Filed 6-10-21; 8:45 am]

BILLING CODE 6717-01-P